Proclamation 9111 of April 30, 2014

National Foster Care Month, 2014

By the President of the United States of America

A Proclamation

Every child deserves to grow, learn, and dream in a supportive and loving environment. During National Foster Care Month, we recognize the almost 400,000 young people in foster care and the foster parents and dedicated professionals who are making a difference in their lives. We also rededicate ourselves to giving every child a sense of stability and a safe place to call home.

While the number of young people in foster care has fallen, those still there face many challenges, including finding mentors to guide their transition into adulthood and getting the support to make that transition a success. One third of foster children are teenagers, in danger of aging out of a system that failed to find them a permanent family.

Across our Nation, ordinary Americans are answering the call to open their hearts and homes to foster children. From social workers and teachers to family members and friends, countless individuals are doing their part to help these striving young people realize their full potential. My Administration remains committed to doing our part. This year, the Affordable Care Act will extend Medicaid coverage up to age 26 for children who have aged out of foster care, allowing them to more easily access quality, affordable health coverage. We are working to break down barriers so every qualified caregiver can become an adoptive or foster parent. Additionally, in the past year, we awarded grants to States, tribes, and local organizations to give communities new strategies to help foster children, including methods for finding permanent families, preventing long-term homelessness of young people aging out of foster care, and supporting their behavioral and mental health needs.

This month, and all year long, let us all recognize that each of us has a part to play in ensuring America's foster children achieve their full potential. Together, we can reach the day where every child has a safe, loving, and permanent home.

NOW, THEREFORE, I, BARACK OBAMA, President of the United States of America, by virtue of the authority vested in me by the Constitution and the laws of the United States, do hereby proclaim May 2014 as National Foster Care Month. I call upon all Americans to observe this month by taking time to help youth in foster care and recognizing the commitment of all who touch their lives.

IN WITNESS WHEREOF, I have hereunto set my hand this thirtieth day of April, in the year of our Lord two thousand fourteen, and of the Independence of the United States of America the two hundred and thirty-eighth.

[FR Doc. 2014-10452

Filed 5-5-14; 8:45 am]

Billing code 3295-F4